DEPARTMENT OF STATE

2 CFR Chapter VI

22 CFR Chapter I

28 CFR Chapter XI

48 CFR Chapter 6

[Public Notice: 10057]

Reducing Regulation and Public Burden, and Controlling Cost

AGENCY: Department of State.

ACTION: Request for comments.

SUMMARY: As part of its implementation of Executive Order 13771, “Reducing Regulation and Controlling Regulatory Costs,” issued by the President on January 30, 2017, the Department of State (the Department) is seeking comments and information from interested parties to assist the Department in identifying existing regulations, paperwork requirements and other regulatory obligations that can be modified or repealed, consistent with law, to achieve meaningful burden reduction while continuing to achieve the Department's statutory obligations.

DATES: Written comments and related material must be received on or before August 14, 2017.

ADDRESSES: You may submit comments by any of the following methods:

• Internet: At www.regulations.gov, search for this notice by searching for Docket No. DOS-2017-0030.

• By email: Submit comments to: RegsReform@state.gov.

FOR FURTHER INFORMATION CONTACT: Alice Kottmyer, Attorney-Adviser, 202-647-2318, RegsReform@state.gov.

SUPPLEMENTARY INFORMATION: On February 24, 2017, the President issued Executive Order 13777, Enforcing the Regulatory Reform Agenda. That Executive Order directs agencies to take specific steps to identify and alleviate unnecessary regulatory burdens placed on the American people. We are seeking comments on Department regulations, guidance documents, and collections of information that you believe should be removed or modified to alleviate unnecessary burdens. The Department is also requesting economic data to support any proposed changes.

The Regulatory Reform Task Force

Executive Order 13777 directs agencies to designate a Regulatory Reform Officer (RRO) and to establish a Regulatory Reform Task Force (RRTF). The Deputy Secretary of State is the RRO. Other RRTF members include senior officials in the Department's primary regulatory bureaus (Bureaus of Consular Affairs, Educational and Cultural Affairs, Political-Military Affairs, and Administration), as well as other Department officials with expertise in legal requirements, planning and budget.

One of the duties of the RRTF is to evaluate existing regulations and make recommendations to the Secretary regarding their repeal, replacement, or modification. Executive Order 13777 further directs that the RRTF attempt to identify regulations that:

• Eliminate jobs, or inhibit job creation;

• Are outdated, unnecessary, or ineffective;

• Impose costs that exceed benefits;

• Create a serious inconsistency or otherwise interfere with regulatory reform initiatives and policies;

• Are inconsistent with the requirements of section 515 of the Treasury and General Government Appropriations Act, 2001 (44 U.S.C. 3516 note), or the guidance issued pursuant to that provision, in particular those regulations that rely in whole or in part on data, information, or methods that are not publicly available or that are insufficiently transparent to meet the standard of reproducibility; or

• Derive from or implement Executive Orders or other Presidential directives that have been subsequently rescinded or substantially modified.

Section 3(e) of the Executive Order calls on the RRTF to “seek input and other assistance, as permitted by law, from entities significantly affected by Federal regulations, including State, local, and tribal governments, small businesses, consumers, nongovernmental organizations, and trade associations” on regulations that meet some or all of the criteria above.

The Executive Orders are at the following sites:

• Executive Order 13771 is located at: http://bit.ly/2kx0TlY

• Executive Order 13777 is located at: http://bit.ly/2lTZPIQ

Department Regulations

Existing Department of State regulations can be found in the Code of Federal Regulations (CFR) in two places:

• 22 CFR Chapter I (parts 1 through 199), which contains rules governing Department operations); and

• 48 CFR Chapter 6 (part 600), which contains the Department's Acquisition Rules.

You may view the most up-to-date versions of these regulations in the electronic CFR, located at www.ecfr.gov.

Department Guidance

Department guidance that relates to the missions of the rulemaking bureaus (identified above) can be found in a number of locations on the state.gov public Web site. The Department is interested in comments regarding any of the guidance located on its public site. For your convenience, the following sites cover specific missions:

• For Consular Affairs, including passports and visas, please visit https://travel.state.gov

• For Educational and Cultural Affairs, including the Exchange Visitor Program, please visit https://exchanges.state.gov/

• For Defense Trade issues, please visit: https://www.pmddtc.state.gov/

You are invited to provide comment on any guidance published by the Department that you feel should be considered for modification or elimination, in accordance with E.O. 13777.

Department's Unified Agenda Submission

The Department's most current submission to the Unified Agenda of Regulatory and Deregulatory Actions is located at https://www.reginfo.gov/public/do/eAgendaMain. Select “Department of State” from the dropdown menu. The Agenda consists of regulatory and de-regulatory actions either in progress or contemplated by the Department. The rules are identified by Regulatory Information Numbers (RINs), which for the Department all begin with “1400-”. When commenting on a rule in the Agenda, please identify it by its RIN.

Approved Collections of Information

You can find the Department's approved collections of information at https://www.reginfo.gov/public/do/PRAMain. Please choose “Current Inventory” and pick “Department of State” from the dropdown menu. All approved collections of information have a Control Number issued by the Office of Management and Budget (OMB). Department Control Numbers all begin with “1405-”. When commenting on an information collection, please identify it by the OMB Control Number.

Public Comments

Please make your comments as specific as possible, and include any supporting data or other information, such as cost information, that you may have. Please note that all comments are publically available, so do not include any information in your comments that you would not want released to the public. We accept anonymous comments. The Department will not edit your comments to remove personal information; however, in our discretion, we might not post on regulations.gov any comments that contain personal information. If your submission cannot be made using www.regulations.gov, please submit using the following email address RegsReform@state.gov or contact Alice Kottmyer, Attorney-Adviser, 202-647-2318 for alternate instructions.

Although the Department will not respond to individual comments, we value your comments and will give careful consideration to them.

Janet Freer,
Director, Office of Directives Management, Department of State.

[FR Doc. 2017-14620 Filed 7-13-17; 8:45 am]

BILLING CODE 4710-24-P